NATIONAL COUNCIL ON DISABILITY

Sunshine Act Meetings

Type: Quarterly Meeting “Teleconference Call”.

Date and Times: July 11, 2007, 1 p.m.-3 p.m.

Location: National Council on Disability. 1331 F St., NW., Washington, DC 20004.

Status: July 11, 2007, 1 p.m.-3 p.m.—Open.

Agenda: Opening Remarks, Discussion of Strategic Planning in Preparation for Upcoming Quarterly Meeting by NCD Board Members, Closing Remarks.

Sunshine Act Meeting Contact: Mark S. Quigley, Director of Communications, NCD, 1331 F Street, NW., Suite 850, Washington, DC 20004; 202-272-2004 (voice), 202-272-2074 (TTY), 202-272-2022 (fax).

Agency Mission: NCD is an independent federal agency and is composed of 15 members appointed by the President, by and with the advice and consent of the Senate. NCD provides advice to the President, Congress, and executive branch agencies promoting policies, programs, practices, and procedures that (A) guarantee equal opportunity for all individuals with disabilities, regardless of the nature or severity of the disability; and (B) empower individuals with disabilities to achieve economic self-sufficiency, independent living, and inclusion and integration into all aspects of society.

Accommodations: Those needing reasonable accommodations should notify NCD immediately.

Language Translation: In accordance with E.O. 13166, Improving Access to Services for Persons with Limited English proficiency, those people with disabilities who are limited English proficient and seek translation services for these meetings should notify NCD immediately.

Dated: July 2, 2007.
Michael C. Collins,
Executive Director.

[FR Doc. 07-3293 Filed 7-2-07; 8:45 am]

BILLING CODE 6820-MA-M